DEPARTMENT OF COMMERCE

National Oceanic and Atmospheric Administration

[Docket No. 0808271163; RIN 0648-ZA70]

NOAA Community-based Restoration Program Guidelines

AGENCY: National Marine Fisheries Service (NMFS), National Oceanic and Atmospheric Administration (NOAA), Commerce.

ACTION: Notice.

SUMMARY: On August 24, 2005 NOAA published a notice in the Federal Register that announced revisions to guidelines for the Community-based Restoration Program (Program). The notice requested public comment on proposed updates to the guidelines that describe how the Program is implemented, and notified the public about a constituent feedback meeting that was scheduled for September 13, 2005 in Washington DC. This notice makes minor changes to the previously published guidelines and responds generally to the comments received, summarizes the constituent feedback meeting in Washington, D.C., and highlights specific authorization for the Program established in the Magnuson-Stevens Fishery Conservation and Management Reauthorization Act of 2006. NOAA expects to periodically update these guidelines every 3 to 5 years to reflect the evolution of the Program. This is not a solicitation of project proposals.

FOR FURTHER INFORMATION CONTACT: Robin Bruckner, (301) 713-0174, or by e-mail at Robin.Bruckner@noaa.gov.

SUPPLEMENTARY INFORMATION: The NOAA Community-based Restoration Program (Program) was established in 1996. Proposed Guidelines for the Program were first published in the Federal Register on October 1, 1999 (64 FR 53339). In that document, comments were sought on modifications to the Program that would allow greater flexibility to support community-based habitat restoration projects. Final Program Guidelines, including responses to comments, were published on March 30, 2000 (65 FR 16890). In the time since the original guidelines were issued, the Program has: experienced an increase in base funding; emphasized certain techniques through targeted initiatives, such as fish passage and marine debris prevention and removal, to expand benefits to aquatic resources; undertaken projects in new geographic locations; increased its focus on ecosystem-based approaches to management; and generally has implemented increased numbers of locally initiated, grass-roots habitat restoration projects through partnerships at the local, regional and national levels. The Program is now specifically authorized through the Magnuson-Stevens Fishery Conservation and Management Reauthorization Act of 2006 on January 12, 2007. The NOAA Restoration Center (Restoration Center) within NMFS is issuing revised Program guidelines, which include measures that are in place or planned to enable the Program to demonstrate increased accountability for the expenditure of public dollars.

Responses to Comments

The Program received comments from three entities during the comment period (August 24, 2005 through October 11, 2005). A private individual, Trout Unlimited, and the Massachusetts Division of Marine Fisheries submitted comments. Comments are summarized below, by commenter, with responses.

Comment 1: The first commenter noted the Program had reached $13 million in appropriations and inquired about the Program's accomplishments in 2004. Specifically, the commenter requested names and locations of projects, the amount of money spent, and what was accomplished (e.g. acres restored).

Response: Project-specific information is made available to the public via the “Funded Projects” section of the Restoration Center website at: http://seahorse2.nmfs.noaa.gov/hcrcdb_app/class/. Projects can be viewed by location, habitat type, or partnership. Project names, locations, funding recipients, award amounts and year awarded, project partners and contacts, and a summary of each project's goals, objectives and results can be found there.

Comment 2: Trout Unlimited offered full support for the proposed Program changes, and emphasized the most beneficial changes. These included: (1) the requirement for project partners to provide detailed project information for the Restoration Center database; (2) the requirement for science-based monitoring where appropriate as supported by the Estuaries and Clean Waters Act of 2000; (3) consideration of habitat restoration in the Great Lakes region; and (4) the increase of upper and lower funding ranges for financial assistance for projects.

Response: NOAA agrees with the commenter that the proposed changes: (1) are essential to evaluate progress of work funded by the Program; (2) represent a long-term commitment of the Program to measure project outcomes such as improvements in habitat productivity and fish populations; (3) represent a reasonable direction for the Program expansion (into the Great Lakes, dependant on Congressional appropriations) given NOAA's traditional responsibilities for habitat restoration in large aquatic systems; and (4) increases efficiency and cost-effectiveness of the Program. Regarding the fourth point, since small projects often require the same level of NOAA staff support to ensure environmental compliance as do larger projects, they have become less cost-effective. NOAA agrees with the commenter that national and regional partnerships can provide smaller awards more cost-effectively as part of larger, more comprehensive restoration activities.

Comment 3: The Massachusetts Division of Marine Fisheries (MADMF) was generally very supportive of the goals and efforts of programs within NOAA Fisheries Office of Habitat Conservation, and offered specific comments in the context of improving federal-state communication and project execution. The commenter: (1) requested clarification of state-federal interactions to ensure the objectives of the Program are consistent with existing state authority and objectives for anadromous and marine fisheries resources; (2) requested a process that would allow the state to provide technical comments and approval on project proposals and designs, and suggested that NOAA require support letters from the state agency with responsibility over the target resources; (3) suggested that formal partnerships between NOAA and state agencies be established to provide a streamlined and dedicated annual funding source for ongoing state programs that routinely address priority anadromous fish restoration projects; and (4) suggested that improvements were needed in the coordination between the Program and state agencies that hold the statutory authority to manage the [target] resources, so as to avoid a duplication of effort, with a recommendation to increase funding to assist state efforts rather than cultivating federal expertise.

Response: (1) NOAA's Community-based Restoration Program has provided financial and technical assistance for on-the-ground habitat restoration projects in 26 states, Canada, the Caribbean and the Pacific Islands to benefit marine and coastal resources and anadromous fish. The Restoration Center has technical staff in 20 locations around the Unites States that ensure NOAA-funded habitat restoration projects are consistent with existing state authority and objectives for coastal and marine fisheries resources. Program staff makes a point to ensure early and continuous coordination with other federal and state agencies. (2) Since inception of the Program, Notices of Funding Availability (NOFA) and Federal Funding Opportunities (FFO) have stressed the importance of letters of support. A complete application for a NOAA habitat restoration grant should include letters of support. Applicants are evaluated based in part on the commitment from the appropriate resource agency personnel that indicates that an agency has reviewed and supports the final proposal. (3) NOAA requires that discretionary funding be provided through fair and open competition. Competition ensures that projects are of the highest quality and offer significant ecological benefits. The Program announces competitive financial assistance annually through NOAA's Omnibus Federal Register Notice and www.grants.gov process, as well as through numerous national and regional habitat restoration partnerships. State agencies are eligible to compete for this funding and have equal opportunity to apply for support for individual projects as well as for larger partnership awards that are offered every 3 years. (4) In response to comments, the Program expanded its effort to involve MADMF in the review and oversight of the Program's anadromous fish restoration projects through the NMFS Northeast Regional Office in Gloucester, Massachusetts. The Program also sent a letter to the Director of the MADMF in April 2006 and proposed a meeting to discuss communication and opportunities to enhance coordination on habitat restoration policies, priorities and projects. NOAA recognizes that local project proponents do not always have the full suite of technical and project management skills to design, permit and implement a project. A cornerstone of the Program is its ability to provide technical assistance around the country for a wide range of habitat restoration activities, including assistance for projects that provide fish passage and habitat improvements for anadromous fish.

Constituent Feedback

On September 13, 2005, the Restoration Center held its first national stakeholder meeting on the Program in Washington, D.C. The meeting provided an open forum for public feedback on the Program and it was attended by 25 partner organizations from around the country. NOAA facilitators guided discussions around the following topic areas: revised program guidelines, technical assistance, restoration bottlenecks, and future programmatic priorities. The Program responded to this constituent feedback by publishing “NOAA's Community-based Restoration Program Stakeholder Meeting, Summary Report September 13, 2005, Washington, D.C.” This report is available upon request (see FOR FURTHER INFORMATION CONTACT), and is organized into six thematic sections: Research and Monitoring, Regional Planning and Prioritization, Technical Assistance Needs, Funding and Program Growth, Interagency Coordinator/Permitting, and Outreach and Education.

NOAA Community-based Restoration Program Guidelines

Background

This document replaces previous guidelines and describes the Program's implementation for FY 2009 and beyond. The comments and stakeholder meeting feedback have been considered and minor modifications to the Program guidelines are provided herein. The Program was recognized in the Magnuson-Stevens Fishery Conservation and Management Reauthorization Act of 2006 as an important means to implement and support the restoration of fishery and coastal habitats.

Coastal areas contain the Nation's most diverse, valuable and at-risk habitats, which support 90% of ocean-dependent commercial and sport fish species, generate billions of recreation and tourism dollars annually, and protect coastal communities from storms, floods and other hazards. U.S. coastal wetlands reduce the damaging effects of hurricanes and other storms on coastal communities, providing more than $23 billion in annual storm protection services to cities and regions most vulnerable to hurricane and tropical storm surges. Recreational fishing is estimated to contribute between $10 billion and $26 billion each year.

Degradation and loss of coastal and marine habitats threaten the long-term sustainability of the nation's fishery resources and the safety and economies of coastal communities. Protecting existing, undamaged habitat is a priority and should be combined with coastal habitat restoration to enhance the functionality of degraded habitat. Restored coastal habitat will help rebuild fisheries stocks and recover threatened and endangered species. Restoring marine and coastal habitats will help protect and revitalize coastal communities and ensure that valuable natural resources will be available to future generations of Americans.

Program Overview

NOAA initiated a Community-based Restoration Program (Program) in 1996 under general authorities within the Fish and Wildlife Coordination Act. The Program received specific authorization in the Magnuson-Stevens Fishery Conservation and Management Reauthorization Act of 2006 on January 12, 2007. The Program implements and supports the restoration of fishery and coastal habitats by providing Federal financial and technical assistance to encourage locally led coastal and marine habitat restoration, and to promote stewardship and conservation values for NOAA trust resources. The Program is a systematic national effort to foster partnerships at the national, regional and local level to implement sound habitat restoration. Partnerships are forged between government, not-for-profit organizations, community groups, recreational and commercial fishing organizations, students and educational institutions, businesses, youth conservation corps and private landowners. Under the Program, partners may contribute funding, land, technical assistance, workforce support or other in-kind services; promote local participation in habitat restoration activities; undertake research and monitoring to evaluate and improve project success; and facilitate stewardship for restored resources at the local level. To date, the Program has funded more than 1400 community-based habitat restoration projects in 27 states, Washington D.C., Canada, and the Caribbean. These projects have engaged 132,000 volunteers that have contributed 840,000 hours toward the restoration of over 33,000 acres of habitat and the opening of 1400 miles of rivers and streams for aquatic organisms.

Electronic Access

Information on the Program, including partnerships and projects that have been funded to date, can be found on the World Wide Web at: http://www.nmfs.noaa.gov/habitat/restoration. Project-specific information is linked off the Restoration Center database (RCDB) launched in 2001 to track habitat acres created, established, rehabilitated, enhanced or protected; stream miles made accessible to diadromous fish; volunteer or community participation hours; restoration techniques used; habitat types and species benefited; and other parameters for Restoration Center supported projects. The database has increased NOAA staff efficiency and allows the Restoration Center to respond quickly and accurately to Congressional, Administrative and constituent inquiries, such as those on Program performance measures, through reporting features that can calculate the acreage or stream miles restored by all projects completed in any particular year, for example. Subsequent enhancements to the database include additional fields related to environmental compliance, display and collection of project locations through a Geographic Information System (GIS) based mapping application, and revised parameters to facilitate data-sharing with the National Estuaries Restoration Inventory.

Overview of Changes to the Program

Since the Program began, Congressional appropriations have increased from $250,000 in 1999 to a high of $13.7 million in 2005. To effectively manage this growth, to provide better service to constituents, and to accurately report on the Program's accomplishments, the Restoration Center has changed some of its practices and implemented a number of tools to increase efficiency and accountability.

To evaluate the progress of the work proposed under Program awards, to determine whether projects were successfully completed, and to facilitate population of the database with project-specific information, the Restoration Center sought and received approval in 2004 from the Office of Management and Budget (OMB) to collect detailed project information from grantees. This information, such as restoration techniques used, species benefitted, geographic coordinates of project sites, and monitoring and outreach information, is now typically required as part of semi-annual progress reporting. The Restoration Center received renewed approval from OMB, under the Paperwork Reduction Act, to continue collecting this information through May 2009.

The Restoration Center has also begun typically requiring science-based monitoring of restoration projects, where appropriate, in an effort to improve on-the-ground restoration efforts and increase Program effectiveness. Applicants requesting funding to implement on-the-ground habitat restoration projects that will result in structural or functional habitat changes should have clearly identified goals (broad in scope) and specific, measurable objectives. Evaluating these objectives to ensure a basic assessment of project success generally requires monitoring, during the project period, of at least one structural and one functional parameter, as supported by Title I of the Estuaries and Clean Waters Act of 2000 (Pub. L. 106-457). Assistance in refining the objectives and/or selecting appropriate parameters is available from Program staff, as well as from a new online Restoration Monitoring Planner available at http://www.habitat.noaa.gov/restoration/rmp. The NOAA Restoration Monitoring Planner guides restoration practitioners through the basic steps of developing a science-based monitoring plan, including hypothesis testing and assessment of a habitat's structure and function. A fact sheet with examples of structural and functional monitoring parameters is also available.

In conjunction with science-based monitoring, the Program is beginning to assess and monitor the socio-economic benefits, aka human dimensions, of habitat restoration. A 2006 pilot study indicated that most individuals who engage in the Program's projects already possess a strong stewardship ethic. In future studies, the Program expects to learn more about the impact of such projects on individuals who are less environmentally aware. A separate human dimensions research area is establishing an economic baseline against which the economic benefits of habitat restoration over the long term can be measured. Using the results of these studies and others, the Program will finalize monitoring guidelines which will enable effective documentation of the socio-economic benefits of habitat restoration.

Both the Restoration Center Database and implementation of minimum monitoring requirements support NOAA's strategic plan, specifically NOAA's Ecosystems mission support goal to “Protect, Restore, and Manage Use of Coastal and Ocean Resources through Ecosystem-Based Management”, and allow better project tracking and evaluation of performance measures. Revision of habitat-related and other relevant performance measures in coordination with all major NOAA programs involved with habitat restoration is ongoing through NOAA's Habitat Program.

Program Goals and Objectives

According to the Magnuson-Stevens Fishery Conservation and Management Reauthorization Act of 2006, the goals and objectives that have defined the Program to date have not changed. These include:

• Provide funding and technical expertise to fishery and coastal communities to assist them in restoring fishery and coastal habitat;

• Advance the science and monitoring of coastal habitat restoration;

• Transfer restoration technologies to the private sector, the public, and other governmental agencies;

• Develop public-private partnerships to accomplish sound coastal restoration projects;

• Promote significant community support and volunteer Participation in fishery and coastal habitat restoration;

• Promote stewardship of fishery and coastal habitats; and

• Leverage resources through national, regional, and local public-private partnerships.

The Restoration Center uses cooperative agreements as a primary funding mechanism to accomplish habitat restoration. The Program will continue to award cooperative agreements based on a competitive, technical review process, whenever possible, to maximize opportunities for public access to Program resources. Partnerships with citizen groups, public and not-for-profit organizations, industry, corporations and businesses, youth conservation corps, students, landowners, and local government, and state and Federal agencies are supported through the provision of Federal financial and technical assistance. Cooperative agreements are awarded at two distinct levels individual (or direct) project funding and Restoration Partnerships.

Direct project funding is typically announced annually in NOAA's Omnibus Federal Register Notice. Direct project funding focuses on partnerships at the local level, providing awards to support individual habitat restoration projects, barrier removal projects, or marine debris prevention and removal projects, or a bundle of well developed, typically related projects, for up to 24 months. Specific information on these federal funding opportunities, including application requirements, eligibility, program priorities and other application submission requirements are posted on www.grants.gov as they are made available.

National and Regional Habitat Restoration Partnership funding is announced every 3 years through the NOAA Omnibus Federal Register Notice. Partnership awards are up to 36 months in duration, are usually larger than project awards, and specific projects are often not identified at the time of application. Partnership applications outline the concept and focus of habitat restoration activities and detail the mechanism under which individual projects will be identified and subsequently funded as subawards through the partner organization. Partner organizations assume the administrative responsibilities for subawards, such as letting contracts and managing progress and financial reports. This allows NOAA staff to focus on assisting with project implementation. The next solicitation for partnership applications is expected to be announced in summer 2009 for FY2010 funding.

For the first time, the partnership review (for FY 2007-2009 funding consideration) was conducted as a two tier review process with both technical mail reviews followed by a panel review, which proved successful. The Restoration Center is likely to adopt this method of review for future partnership rounds, and may opt to use it for future project decision-making.

Partners help identify and secure additional funding, land, technical assistance, workforce support or other in-kind services to enable citizens to improve locally important habitats that sustain living marine and coastal resources. Projects are most often implemented in coastal and nearshore marine and estuarine environments and in riverine environments that support diadromous fish; expansion of the Program to the Great Lakes is being considered, and will be dependent on the NOAA Habitat Program's goals and Congressional appropriations made for this purpose. It is anticipated that any projects supported in the Great Lakes region will fall under these Program guidelines.

The Program places emphasis on habitat restoration projects with strong community support and recognizes the significant role that communities can play in habitat restoration and protection. Projects that incorporate citizens' “hands-on” involvement in project implementation, monitoring, or outreach and education are preferred. The role of NOAA in the Program is to strengthen the development and implementation of sound restoration projects. NOAA staff will continue to provide guidance and technical expertise on permitting, environmental compliance, engineering and design, and similar aspects required for project implementation.

NOAA seeks applications that demonstrate collaboration among entities such as nonprofit organizations, citizen groups, industry, youth conservation corps, students, landowners, academics, local government, and state, and federal agencies to implement habitat restoration activities. Project outcomes should include a net gain in habitat acres restored or stream miles re-established for diadromous fish passage. Successful applicants will typically be expected to document volunteer involvement and a maximization of project partnerships through leverage. Eligibility requirements will be detailed in annual solicitations published in the Federal Register.

The Restoration Center is also exploring the feasibility of working more collaboratively with other federal agencies by developing joint interagency solicitation for applications. This would enable project proponents to submit a single application for consideration by multiple federal agencies, and would facilitate discussion amongst agencies on cooperative funding opportunities. It would also allow agencies to better leverage their respective financial and technical resources and help accomplish restoration in a more strategic fashion. Consolidation would be for the RFAs only; funding for recommended projects would need to be provided separately by the interested agency, as federal agencies have limited authority in most cases to transfer funds appropriated by Congress to another federal agency.

Eligible Restoration Activities

Restoration may include, but is not limited to, improvement of coastal wetland tidal exchange or reestablishment of historic hydrology; dam or berm removal; improvement or reestablishment of fish passage; reef/substrate creation; establishment of riparian buffer zones and improvement of freshwater habitat features in watersheds that support diadromous fish; exclusionary fencing and planting; invasive species removal; planting of native coastal wetland and submerged aquatic vegetation; and enhancement of feeding, spawning and growth habitat essential to marine or diadromous fish, including degraded areas that historically were important habitat for living marine and coastal resources, and through the restoration of which would support these resources again.

Program Priorities

In general, NOAA seeks restoration project proposals that clearly demonstrate anticipated benefits to specific NOAA trust resource habitats; describe how these benefits will be achieved through the proposed restoration activities, and identify the range of species expected to benefit. NOAA trust resource habitats include but are not limited to, estuaries, salt marshes, seagrass beds, coral reefs, shellfish reefs, mangrove forests, and riparian habitat near rivers, streams and creeks used by diadromous fish.

NOAA seeks to emphasize selection of restoration projects that address habitats whose regional condition is compromised due to loss, fragmentation, presence of invasive species, or loss of functionality. In addition, habitat restoration project proposals are evaluated based on their social and economic importance (e.g. benefits to essential fish habitat that supports commercial or recreational fishery resources, or improvements in aesthetic and stewardship value of NOAA trust resource habitats) within their region. Within a given habitat, priority is also typically given to project proposals that incorporate proven effective restoration techniques, address causes of habitat degradation/loss, and maximize cost-effectiveness.

Since the inception of the Program, West Coast projects have focused primarily on restoration of salmonid freshwater habitats. To broaden the scope of funded projects in the Pacific Northwest and California, the Program will seek projects that benefit multiple species, including non-salmonid resources, and projects that emphasize restoration of marine and estuarine habitats. The Program expects to continue to support freshwater salmonid habitat restoration efforts. In addition, any salmonid project that would occur where NOAA species recovery planning efforts are underway should be consistent with those planning efforts.

While the primary focus of the Program is to provide funding and technical expertise to support on-the-ground implementation of fishery habitat restoration projects that involve an outreach and/or volunteer component tied to the restoration activities, the Program recognizes that accomplishing restoration is a multi-faceted effort involving project design, engineering services, permitting, short-term baseline studies, construction, oversight, monitoring, and education and outreach. In cases where on-the-ground funding for a project has been secured or is deemed likely, and/or community support for a restoration project is high, but pre-implementation funding to conduct feasibility studies or engineering and design is limiting a project's forward progress, the Program will consider funding such pre-implementation activities. Proposals emphasizing a singular component, such as only education or program coordination will be discouraged, as will applications that propose to expand an organization's day-to-day activities, or that primarily seek support for administration, salaries, overhead, and travel. Because requests for habitat restoration funds historically exceed funds available, funding land purchase agreements, conservation easements, and large equipment purchases such as vehicles, boats and similar items will receive low priority.

Although NOAA recognizes that water quality issues may impact habitat restoration efforts, this Program is intended to fund projects that target physical and/or biological habitat restoration rather than those that result in direct water chemistry improvements (i.e. wastewater treatment plant upgrades or combined sewer outfall corrections). Similarly, the following restoration projects will not be eligible for funding: (1) Activities that constitute legally required mitigation for the adverse effects of an activity regulated or otherwise governed by local, state or Federal law; (2) activities that constitute restoration for natural resource damages under Federal, state or local law; and (3) activities that are required by a separate consent decree, court order, statute or regulation. Funds from this Program may be sought to enhance restoration activities beyond the scope legally required by these activities.

Environmental Compliance

It is the applicant's responsibility to obtain all necessary Federal, state and local government permits and approvals for the proposed work. Applicants are expected to design their projects so that they minimize the potential for adverse impacts to the environment. NOAA must analyze the potential environmental impacts, as required by the National Environmental Policy Act (NEPA), for applications that seek NOAA funding. Proposals should provide enough detail for NOAA to make a NEPA determination. Successful applications cannot be forwarded to the NOAA Grants Management Division with recommendations for funding until NOAA completes necessary NEPA documentation.

Consequently, as part of an applicant's package, and under the description of proposed activities, applicants will be required to provide detailed information on the activities to be conducted, such as site locations, species and habitat(s) to be affected, possible construction activities, and any environmental concerns that may exist (e.g., the use of and/or disposal of hazardous or toxic substances, introduction of non-indigenous species, impacts to endangered and threatened species, impacts to coral reef systems, etc.). For partnerships, where project-specific details may not be available at the time an award is made, partners must meet the same environmental compliance requirements on subsequent sub-awards.

In addition to providing specific information that will serve as the basis for any required impact analyses, applicants may also be required to assist NOAA in drafting of an environmental assessment if NOAA determines an assessment is necessary and that one does not already exist for the activities proposed in the application. Applicants may also be required to cooperate with NOAA in identifying and implementing feasible measures to reduce or avoid any identified adverse environmental impacts of their proposal. The selecting official may decide, at the time of proposal review, to recommend funding a project in phases to enable an applicant to provide information needed for an environmental assessment, feasibility analysis or similar activity if a NEPA determination cannot be made for all activities in a particular application. The selecting official may also impose special award conditions that limit the use of funds for activities that have outstanding environmental compliance requirements. Special award conditions may also be imposed to ensure grantees consider and plan for the safety of volunteers, and provide appropriate credit for NOAA and other contributors, for example.

Funding Sources and Dispersal Mechanisms

The Restoration Center envisions funding projects through cooperative agreements and grants, contracts, joint project agreements, and intra- and interagency transfers, as appropriate.

A cooperative agreement is a legal instrument reflecting a relationship between NOAA and a recipient whenever (1) the principal purpose of the relationship is to provide financial assistance to the recipient and (2) substantial involvement is anticipated between NOAA and the recipient during performance of the contemplated activity.

A grant is similar to a cooperative agreement, except that in the case of grants, substantial involvement between NOAA and the recipient is not anticipated during the performance of the contemplated activity. Financial assistance is the transfer of money, property, services or anything of value to a recipient in order to accomplish a public purpose of support or stimulation that is authorized by Federal statute.

A contract is a procurement instrument used when the primary purpose is to acquire goods or services for government use. Contracts may be used by the Program when NOAA directly implements priority restoration projects.

The Secretary of Commerce has authority to enter into joint project agreements with not-for-profit, research, or public organizations on matters of mutual interest, the cost of which is equitably apportioned. The principal purpose of a joint project agreement under this Program is to engage in a collaborative and equitably apportioned effort with a qualified organization on matters of mutual interest.

For purposes of this Program, interagency agreements are written documents that contain specific provisions of governing authorities, agency responsibilities, and funding. Such agreements are entered into between NOAA and a reimbursing Federal agency or between another Federal agency and NOAA when NOAA is the funding organization. Such agreements will also require the inclusion of a local sponsor for the restoration project.

The instrument chosen will be based on such factors as degree of direct NOAA involvement with the project beyond the provision of financial assistance, the proportion of funds invested in the project by NOAA and the other organizations, and the efficiency of the different mechanisms to achieve the Program's goals and objectives. The Restoration Center will determine which method is the most appropriate based on the specific circumstances of each project.

NOAA reserves the right to fund individual projects directly, or through partnership arrangements. The Program will continue to create partnership arrangements at the national and regional level with organizations that have similar goals for improving fisheries habitat. Partnerships are a key element that allows the Restoration Center to significantly leverage the funding available for on-the-ground restoration. Partnerships also encourage sharing and distribution of technical expertise; they often improve coordination between diverse organizations with common goals, and they allow NOAA to reach larger and more diverse communities that have vested interests in fishery habitat restoration.

The Restoration Center will function in a clearinghouse capacity to help develop and link high quality habitat restoration proposals with other potential funding sources whose evaluation criteria contain similar specifications for habitat enhancement. This will provide greater exposure for project ideas and increase the chances for project proponents to secure funding.

Each year, the Restoration Center Director will determine the proportion of Program funds that will be allocated to National and Regional Habitat Restoration Partnerships and the proportion available for direct project funding. The proportion will be established annually and may depend upon the amount of funds available from partnership organizations to leverage NOAA dollars and the ability of partners to help NOAA fund a broad array of projects over a wide geographic distribution. A synopsis of the partnership and/or project funding opportunity will be published in NOAA's Omnibus Federal Register Notice, typically in the summer prior to the fiscal year funding is expected to be available. Potential applicants will be directed to additional information contained in any Federal Funding Opportunity (FFO) announced on www.grants.gov. FFO's will contain a Funding Opportunity Description, Award Information, Eligibility Information, Application and Submission Information, Application Review and Selection Information, Award Administration Information, Administrative and National Environmental Policy Act Requirements, Agency Contacts, and other information for potential applicants.

The public should note that since publication of the initial Program Guidelines in 2000, NOAA has adopted five standard evaluation criteria for all its competitive grant programs, as follows: (1) Importance and Applicability of Proposal -This criterion ascertains whether there is intrinsic value in the proposed work and/or relevance to NOAA, federal, regional, state or local activities; (2) Technical/Scientific Merit B This criterion assesses whether the approach is technically sound and/or innovative, if the methods are appropriate, and whether there are clear project goals and objectives; (3) Overall Qualifications of Applicants B This criterion ascertains whether the applicant possesses the necessary education, experience, training, facilities, and administrative resources to accomplish the project; (4) Project Costs - This criterion evaluates the budget to determine if it is realistic and commensurate with the project needs and time-frame; and (5) Outreach, Education, and Community Involvement - NOAA assesses whether the project provides a focused and effective education and outreach strategy regarding NOAA's mission. Information on how these criteria are specifically applied in the context of Community-based Restoration Program application evaluation are described each year in the FFO, available on www.grants.gov.

Funding Ranges

In 2008, the Restoration Center accepted habitat proposals requesting between $30,000 and $250,000; marine debris prevention and removal proposals between $15,000 and $250,000, and Open Rivers Initiative proposals for barrier removals between $30,000 and $1,000,000. This represents an increase in upper and lower funding ranges for projects from earlier Program guidelines. Typical restoration project awards range from $50,000 to $300,000. Funding at levels below $15,000 is typically no longer cost-effective due to increasing operational costs necessary to ensure environmental compliance and administer awards; funding fewer projects at higher dollar amounts has also led to increases in Program efficiency.

Awards for establishing multi-year, National and Regional Habitat Restoration Partnerships, under which individual project subawards will be jointly reviewed and prioritized for funding, are anticipated to range between $100,000 and $4.0 million, with that range of funding anticipated to be provided to successful partnerships annually during a partnership's duration. Subsequent allocation of funding during the multi-year award period will be dependent on the satisfactory performance of the partner organization.

Project and Partnership solicitations (FFO's) will contain information on funding ranges, the weighting of NOAA's standard evaluation criteria, and additional factors that may be used by the selecting official to recommend a slate of projects to the Grants Management Division to receive awards. The number of awards and funding ranges to be made in FY 2007 and beyond will depend on the amount of funds appropriated to the Program annually by Congress.

Examples of Previously Funded Projects

The following examples are community-based restoration projects that have been funded with assistance from the Restoration Center. These examples are only illustrative and are not intended to limit the scope of future proposals in any way.

Fish Ladder Construction

An impediment to fish passage was corrected through the design and construction of a step-pool fish ladder, which now allows native steelhead trout to reach their historic spawning grounds.

Invasive Plant Removal

A coalition of volunteer groups called “Pepper Busters” worked to remove exotic Brazilian pepper plants and replant native shoreline vegetation.

Salt Marsh Restoration

An undersized culvert was replaced to increase the mean high water level in the restricted portion of a marsh and restore tidal flushing to 20 acres of salt marsh.

Oyster Reef Restoration

Oyster reef habitat was increased by reconstructing historic reefs and seeding them with hatchery-produced seed oysters grown in floating cages by students.

Submerged Aquatic Vegetation Restoration

An evaluation of the feasibility of using volunteer divers to restore seagrass was developed. A protocol was created to train volunteers in water quality monitoring and seagrass transplantation techniques.

Kelp Forest Restoration

Community dive groups were trained in kelp reforestation activities, including the preparation, planting and maintenance of kelp sites, documentation of growth patterns, and changes in marine life attracted to the newly planted kelp areas.

Wetland Plant Nursery

An innovative wetland nursery program was implemented in local high schools, where science and ecology classes build wetland nurseries on campus to grow salt marsh grasses for local restoration efforts.

Derelict Fishing Gear Removal

A pilot project consisted of developing protocols and conducting initial removal efforts. After surveying, locating, and mapping derelict fishing gear, a minimum of 11 tons of lost and abandoned fishing gear was removed by licensed and certified divers.

Nuisance Dam Removal

Two small stone dams blocked fish migration, and degraded water quality and prey habitat conditions for anadromous fish. The dams, while only several feet high, also presented a public safety hazard. This project resulted in opening stream habitat to anadromous fish, restoring acres of tidal wetlands, and removal of a public safety hazard.

Riparian Habitat Restoration

Youth corps members were trained in the use of biorestoration and stabilization techniques to restore eroding riverbanks and improve habitat for salmon smolt and other fish species.

Diadromous Fish Habitat Restoration

Highly functional salmonid and wildlife habitat was restored with the cooperation of private landowners by opening silted enclosures along a slough to provide refuge for juvenile salmonids during the winter flood flows.

Dated: September 22, 2008.
James W. Balsiger,
Acting Assistant Administrator for Fisheries, National Marine Fisheries Service.

[FR Doc. E8-22708 Filed 9-25-08; 8:45 am]

BILLING CODE 3510-22-S